DEPARTMENT OF COMMERCE

International Trade Administration

[A-823-819]

Seamless Carbon and Alloy Steel Standard, Line, and Pressure Pipe From Ukraine: Preliminary Results of Antidumping Duty Administrative Review; 2022-2023

AGENCY: Enforcement and Compliance, International Trade Administration, Department of Commerce.

SUMMARY: The U.S. Department of Commerce (Commerce) preliminarily determines that the sole respondent under review sold subject merchandise at less than normal value during the period of review (POR) August 1, 2022, through July 31, 2023. We invite interested parties to comment on the preliminary results of this review.

DATES: Applicable September 13, 2024.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On August 23, 2021, Commerce published the antidumping duty (AD) order on seamless carbon and alloy steel standard, line, and pressure pipe (seamless pipe) from Ukraine.¹ On August 2, 2023, Commerce notified interested parties of the opportunity to request an administrative review of the Order covering the POR.²

¹ See Seamless Carbon and Alloy Steel Standard, Line, and Pressure Pipe from the Republic of Korea, the Russian Federation, and Ukraine: Antidumping Duty Orders, 86 FR 47055 (August 23, 2021) (Order).

² See Antidumping or Countervailing Duty Order, Finding, or Suspended Investigation; Opportunity to Request Administrative Review and Join Annual Inquiry Service List, 88 FR 50840 (August 2, 2023).

On October 18, 2023, based on a timely request for review,³ Commerce initiated an administrative review of the Order with respect to Interpipe.⁴ On April 18, 2024, Commerce extended the deadline for issuing the preliminary results of this review until August 30, 2024, in accordance with section 751(a)(3)(A) of the Tariff Act of 1930, as amended (the Act) and 19 CFR 351.213(h)(2).⁵ On July 22, 2024, Commerce tolled certain deadlines in this administrative proceeding by seven days.⁶ The deadline for these preliminary results are now September 6, 2024. For a complete description of the events that occurred subsequent to initiation of the review, see the Preliminary Decision Memorandum.

³ See Interpipe's Letter, “Request for Review—2022-2023 Antidumping Duty Administrative Review Period,” dated August 31, 2023.

⁴ See Initiation of Antidumping and Countervailing Duty Administrative Reviews, 88 FR 71829 (October 18, 2023). Interpipe refers to the collapsed entity, Interpipe Ukraine LLC, PJSC Interpipe Niznedneprovsky Tube Rolling Plant, LLC Interpipe Niko Tube, Interpipe Europe S.A., and JSC Interpipe Novomoskovsk Pipe Production Plant. See Memorandum, “Decision Memorandum for Preliminary Results of the 2022-2023 Administrative Review of the Antidumping Duty Order on Seamless Carbon and Alloy Steel Standard, Line, and Pressure Pipe from Ukraine,” dated concurrently with, and hereby adopted by, this notice (Preliminary Decision Memorandum)

⁵ See Memorandum, “Extension of Deadline for Preliminary Results of Antidumping Duty Administrative Review,” dated April 18, 2024.

⁶ See Memorandum, “Tolling of Deadlines for Antidumping and Countervailing Duty Proceedings,” dated July 22, 2024.

Scope of the Order

The merchandise covered by the Order is seamless pipe from Ukraine. For a full description of the scope, see the Preliminary Decision Memorandum.

Methodology

Commerce is conducting this review in accordance with section 751(a) of the Act. We calculated constructed export prices in accordance with section 772 of the Act and normal value in accordance with section 773 of the Act.

For a full description of the methodology underlying these preliminary results, see the Preliminary Decision Memorandum. A list of topics discussed in the Preliminary Decision Memorandum is in the appendix to this notice. The Preliminary Decision Memorandum is a public document that is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We are assigning the following estimated weighted-average dumping margin to the firm listed below for the period August 1, 2022, through July 31, 2023:

Producer and/or exporter | Weighted-average dumping margin (percent)
Interpipe Ukraine LLC/PJSC Interpipe Niznedneprovsky Tube Rolling Plant/LLC Interpipe Niko Tube/Interpipe Europe S.A./JSC Interpipe Novomoskovsk Pipe Production Plant | 2.89

Disclosure

Commerce intends to disclose its calculations and analysis performed to interested parties for these preliminary results of review within five days of any public announcement or, if there is no public announcement, within five days of the date of publication of this notice in the Federal Register in accordance with 19 CFR 351.224(b).

Public Comment

Pursuant to 19 CFR 351.309(c)(1)(ii), interested parties may submit case briefs to Commerce via ACCESS no later than 30 days after the date of publication of these preliminary results of review in the Federal Register.⁷ Rebuttal briefs, limited to issues raised in the case briefs, may be filed in ACCESS not later than five days after the date for filing case briefs.⁸ Interested parties who submit case briefs or rebuttal briefs in this proceeding must submit: (1) a table of contents listing each issue; and (2) a table of authorities.⁹

⁷ See 19 CFR 351.309(c)(1)(ii).

⁸ See 19 CFR 351.309(d); see also Administrative Protective Order, Service, and Other Procedures in Antidumping and Countervailing Duty Proceedings, 88 FR 67069, 67077 (September 29, 2023) (APO and Service Final Rule).

⁹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹¹

¹⁰ We use the term “issue” here to describe an argument that Commerce would normally address in a comment of the Issues and Decision Memorandum.

¹¹ See APO and Service Final Rule.

Pursuant to 19 CFR 351.310(c), interested parties who wish to request a hearing must submit a written request for a hearing to the Assistant Secretary for Enforcement and Compliance, filed electronically via ACCESS, by no later than 5 p.m. Eastern Time within 30 days after the date of publication of this notice in the Federal Register. Hearing requests should contain: (1) the party's name, address, and telephone number; (2) the number of persons from the party attending the hearing; and (3) a list of issues to be discussed. Issues raised in the hearing will be limited to those issues raised in the respective case briefs. If a hearing is requested, Commerce will announce the date and time of the hearing. Parties should confirm the date and time of the hearing two days before the scheduled hearing date.

All submissions to Commerce must be filed electronically via ACCESS. An electronically filed document must be received successfully in its entirety via ACCESS by 5:00 p.m. Eastern Time on the due date.¹² Note that Commerce has amended certain of its requirements pertaining to the service of documents in section 351.303(f) of our regulations.¹³

¹² See 19 CFR 351.310(c).

¹³ See Administrative Protective Order, Service, and Other Procedures in Antidumping and Countervailing Duty Proceedings; Final Rule, 88 FR 67069 (September 29, 2023).

Final Results of Review

Commerce intends to issue the final results of this administrative review, which will include the results of its analysis of issues raised in any written briefs, within 120 days of publication of these preliminary results of review in the Federal Register, pursuant to section 751(a)(3)(A) of the Act, unless extended.

Assessment Rates

Pursuant to section 751(a)(2)(A) of the Act and 19 CFR 351.212(b)(1), upon completion of this administrative review, Commerce shall determine, and U.S. Customs and Border Protection (CBP) shall assess, antidumping duties on all appropriate entries of subject merchandise covered by this review.¹⁴ If Interpipe's weighted-average dumping margin in the final results of this review is not zero or de minimis (i.e., greater than or equal to 0.5 percent), we will calculate importer-specific ad valorem assessment rates for the merchandise by dividing the total amount of dumping calculated for all reviewed sales to the importer by the total entered value of the merchandise sold to the importer.¹⁵ Where either Interpipe's ad valorem weighted-average dumping margin is zero or de minimis, or an importer-specific ad valorem assessment rate is zero or de minimis in the final results of review, we will instruct CBP to liquidate the appropriate entries without regard to antidumping duties.¹⁶

¹⁴ See 19 CFR 351.212(b)(1).

¹⁵ Id.

¹⁶ See 19 CFR 351.106(c)(2); see also Antidumping Proceedings: Calculation of the Weighted-Average Dumping Margin and Assessment Rate in Certain Antidumping Proceedings; Final Modification, 77 FR 8101, 8102 (February 14, 2012) (Final Modification for Reviews).

In accordance with Commerce's “automatic assessment” practice, for entries of subject merchandise during the POR produced by Interpipe for which it did not know was destined for the United States, we intend to instruct CBP to liquidate those entries at the all-others rate (i.e., 23.75 percent) ¹⁷ in the original less-than-fair-value (LTFV) investigation if there is no rate for the intermediate company(ies) involved in the transaction.¹⁸

¹⁷ See Order, 86 FR at 35273.

¹⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, Commerce will direct CBP not to liquidate relevant entries until the time for parties to file a request for a statutory injunction has expired (i.e., within 90 days of publication).

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for Interpipe will be equal to the weighted-average dumping margin established for Interpipe in the final results of this administrative review, except if the rate is less than 0.50 percent and, therefore, de minimis within the meaning of 19 CFR 351.106(c)(1), then the cash deposit rate will be zero; (2) for producers or exporters not covered in this review but that were previously reviewed or investigated in a prior segment of this proceeding, the cash deposit rate will continue to be the rate assigned to the company in the most recently-completed segment of this proceeding in which the producer or exporter was examined; (3) if the exporter of the subject merchandise does not have a company-specific rate but the producer of the subject merchandise does, then the cash deposit rate will be the rate assigned to the producer of the subject merchandise in the most recently completed segment of this proceeding in which the producer was examined; and (4) the cash deposit rate for all other producers or exporters will continue to be the all-others rate of 23.75 percent that was established in the investigation in this proceeding.¹⁹ These cash deposit requirements, when imposed, shall remain in effect until further notice.

¹⁹ See Order, 86 FR at 35272.

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i) of the Act, and 19 CFR 351.213(h)(2) and 351.221(b)(4).

Dated: September 6, 2024.
Abdelali Elouaradia,
Deputy Assistant Secretary for Enforcement and Compliance.

Appendix—List of Topics Discussed in the Preliminary Decision Memorandum

I. Summary

II. Background

III. Scope of the Order

IV. Affiliation/Single Entity

V. Discussion of the Methodology

VI. Currency Conversion

VII. Recommendation

[FR Doc. 2024-20749 Filed 9-12-24; 8:45 am]

BILLING CODE 3510-DS-P